DEPARTMENT OF COMMERCE

National Oceanic and Atmospheric Administration

[RTID 0648-XX023]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an application submitted by the Cape Cod Commercial Fishermen's Alliance to revise an existing Exempted Fishing Permit contains all of the required information and warrants further consideration. The revised Exempted Fishing Permit would allow two commercial fishing vessels participating in an electronic monitoring program to fish with benthic longline gear in portions of the Cashes Ledge Closure Area. Regulations under the Magnuson-Stevens Fishery Conservation and Management Act require publication of this notice to provide interested parties the opportunity to comment on applications for proposed Exempted Fishing Permits.

DATES: Comments must be received on or before February 6, 2020.

ADDRESSES: You may submit written comments by any of the following methods:

• Email: NMFS.GAR.EFP@NOAA.gov. Include in the subject line “LONGLINE AMENDMENT TO EM EFP.”

• Mail: Michael Pentony, Regional Administrator, NMFS, Greater Atlantic Regional Fisheries Office, 55 Great Republic Drive, Gloucester, MA 01930. Mark the outside of the envelope “LONGLINE AMENDMENT TO EM EFP.”

FOR FURTHER INFORMATION CONTACT: Maria Vasta, Fishery Management Specialist, 978-281-9196.

SUPPLEMENTARY INFORMATION:

On May 1, 2019, NMFS granted an Exempted Fishing Permit (EFP) to the Cape Cod Commercial Fishermen's Alliance, in partnership with The Nature Conservancy, the Maine Coast Fishermen's Association, the Gulf of Maine Research Institute, and fishermen, to continue developing an audit model electronic monitoring (EM) program for catch accounting in the groundfish fishery. Fifteen vessels using a variety of gear types (e.g., jig, benthic longline, sink gillnet, bottom trawl) are participating in the project.

Vessels participating in this EFP are required to use EM on 100 percent of groundfish trips. Camera systems are used in lieu of human at-sea monitors, and in addition to Northeast Fishery Observer Program observers. Vessels must adhere to a vessel-specific monitoring plan detailing at-sea catch handling protocols. Vessels must also submit haul-level electronic vessel trip reports with count and weight estimates for all groundfish discards. To incentivize participation in this program and because vessels are fully accountable, the audit model EM EFP exempts certain participating vessels from several Federal closed area regulations. One of these exemptions allows vessels fishing with jig gear (jigging machines, handgear) to fish in the Cashes Ledge Closure Area, excluding the Ammen Rock Habitat Management Area (HMA).

The Cape Cod Commercial Fishermen's Alliance subsequently submitted a request to revise this EFP to allow two additional vessels to fish with benthic longline gear in portions of the Cashes Ledge Closure Area. Both vessels are currently participating in the audit model EM EFP. The revised EFP would exempt the two participating benthic longline vessels from the Cashes Ledge Closure Area excluding the Ammen Rock HMA at 50 CFR 648.81(a)(3). These vessels would continue to be required to use EM systems on 100 percent of groundfish trips and to adhere to their specific vessel-monitoring plans. Existing catch accounting, video review, and other EM protocols would remain in effect during these operations.

The revised EFP would be effective through the end of fishing year 2019 (April 31, 2019). Project partners estimate that the two participating vessels would collectively take 20 benthic longline trips in the Cashes Ledge Closure Area under the amended EFP. Each trip would last for approximately 18 hours in duration. Cumulative catch estimates from these benthic longline 20 trips are presented in Table 1.

Table 1—Cumulative Catch Estimates for Benthic Longline Vessels Fishing in the Cashes Ledge Closure Area
Species | Cumulative catch estimates
Haddock | 70,000 lb (31,752 kg).
Spiny dogfish | 4,000 lb (1,814 kg).
Atlantic cod | 2,500 lb (1,134 kg).
Cusk | 2,000 lb (907 kg).
Atlantic wolffish | 200 lb (91 kg).
Winter skate | 200 lb (91 kg).
Smooth skate | 200 lb (91 kg).
Thorny skate | 200 lb (91 kg).
Red hake | 200 lb (91 kg).
White hake | 200 lb (91 kg).
Sculpin | 200 lb (91 kg).
Atlantic halibut | 10 individuals.
Winter flounder | 2 individuals.
Barndoor skate | 2 individuals.

Prior to setting benthic longline gear, participating vessels would test their intended fishing area for the presence of target species. Once testing was complete, participating vessels would set an average of 10 lines per trip (five lines per tide, two tides per trip). Each line would be rigged with 1,000 hooks, and average soak time would be approximately 2.5 hours.

Participating vessels would continue to develop EM for catch accounting in the groundfish fishery. The applicant states that allowing benthic longline vessels to fish in portions of the Cashes Ledge Closure Area would give these vessels additional flexibility to extend their fishing season and improve their ability to target haddock, which is a healthy groundfish stock. The applicant additionally states that permitting benthic longline vessels access to portions of the Cashes Ledge Closure Area would provide additional opportunities for hook fishermen to set their gear in areas that are not congested with gillnet and mobile gear.

Since benthic longline fishing inside the Cashes Ledge Closure Area is outside of the scope of the project as described in the original Scientific Research Plan, we are taking public comment on the revision request. Atlantic halibut are caught in the Cashes Ledge Closure Area by vessels fishing with hook gear. We are also interested in comments regarding the potential Atlantic halibut catch, and how the exemption may affect other fixed gear fishing vessels operating in the Cashes Ledge Closure Area.

If approved, the project partners may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: January 15, 2020.
Karyl K. Brewster-Geisz,
Acting Director, Office of Sustainable Fisheries, National Marine Fisheries Service.

[FR Doc. 2020-00887 Filed 1-21-20; 8:45 am]

BILLING CODE 3510-22-P